DEPARTMENT OF TRANSPORTATION

Federal Aviation Administration

Agency Information Collection Activities: Requests for Comments; Clearance of Renewed Approval of Information Collection: Application for Employment With the Federal Aviation Administration; Withdrawal

AGENCY: Federal Aviation Administration (FAA), DOT.

ACTION: Notice and request for comments; withdrawal.

SUMMARY: This action withdraws the Notice to collect information to process and report Unmanned Aircraft Systems (UAS) airborne and ground based observations by the public of drone behavior that they consider suspicious or illegal. The document contained errors, and needs further clarification.

DATES: May 17, 2016.

FOR FURTHER INFORMATION CONTACT: Ronda Thompson, Room 441, Federal Aviation Administration, ASP-110, 950 L'Enfant Plaza SW., Washington, DC 20024, by phone at (202) 267-1416, or by email at Ronda.Thompson@faa.gov.

SUPPLEMENTARY INFORMATION: The FAA published in the Federal Register of May 10, 2016 (81 FR 28930) a Notice and request for comments on the FAA's intention to request Office of Management and Budget (OMB) approval for a new information collection to process and report UAS airborne and ground based observations by the public of drone behavior that they consider suspicious or illegal. The Notice and request for comments contained errors; therefore the Notice and request for comments is being withdrawn.

The Withdrawal

In consideration of the foregoing, the Notice and request for comments as published in the Federal Register of May 10, 2016 (81 FR 28930) FR Doc. 2016-10976, is hereby withdrawn.

Issued in Washington, DC, on May 12, 2016.
Lorelei Peter,
Assistant Chief Counsel for Regulations.

[FR Doc. 2016-11573 Filed 5-12-16; 11:15 am]

BILLING CODE 4910-13-P